DEPARTMENT OF AGRICULTURE

Forest Service

DEPARTMENT OF THE INTERIOR

Bureau of Land Management

[ID-918-01-1610-DH-UCRB]

Interior Columbia Basin Ecosystem Management Project, Northern, Intermountain and Pacific Northwest Regions; States of Oregon, Washington, Idaho, Montana

AGENCY: Forest Service, USDA; Bureau of Land Management, USDI.

ACTION: Amended notice of intent to conduct planning and prepare an Environmental Impact Statement. Notification regarding the process to follow to request administrative review of the proposed decision for the Interior Columbia Basin Ecosystem Management Project (ICBEMP).

SUMMARY: The Bureau of Land Management and the U.S. Forest Service are jointly engaged in a land use plan amendment process, developing a management strategy for lands they administer. Both agencies' regulations provide for administrative review of the proposed decision before it is recorded. The responsible officials for both agencies have agreed to use one administrative review process in order to simplify the process for the public and for the agencies. The responsible officials further decided to use, as the single review process, the Bureau of Land Management's protest process. Using this single process allows the public to seek review from both agency heads with one request.

DATES: Protests of the ICBEMP proposed decision must be filed within 30 days of the date the Environmental Protection Agency publishes the notice of receipt of the final environmental impact statement (EIS) for the ICBEMP.

ADDRESSES: Protests of the ICBEMP proposed decision must be sent to the address that will be provided with the distribution of the final EIS and proposed decision. The final EIS and proposed decision will be sent to everyone who received or commented on the supplemental draft EIS, unless they ask to be removed from the mailing list. The final EIS and proposed decision will also be available via the internet (http://www.icbemp.gov).

FOR FURTHER INFORMATION CONTACT: Susan Giannettino, Project Manager, 304 North 8th St., Room 250, Boise, Idaho 83702, phone (208) 334-1770; or Geoff Middaugh, Deputy Project Manager, P.O. Box 2295, Walla Walla, Washington 99362, phone (509) 522-4033.

SUPPLEMENTARY INFORMATION: The Forest Service and Bureau of Land Management have been engaged in the Interior Columbia Basin Ecosystem Management Project—a land use plan amendment process—since 1994. The Bureau of Land Management planning regulations (43 CFR 1610) and the Forest Service planning regulations (36 CFR 219) both provide the public with the opportunity to request administrative review of a proposed land use plan decision. The Bureau of Land Management regulations describe a protest process (43 CFR 1610.5-2):

Any person who participated in the planning process and has an interest which is or may be adversely affected by the approval or amendment of a resource management plan may protest such approval or amendment. A protest may raise only those issues which were submitted for the record during the planning process.

The Forest Service regulations provide that (36 CFR 219.32(e)):

Where the Forest Service is a participant in a multi-agency decision subject to objection under this part, the responsible official and reviewing officer may waive the objection procedures of this part to adopt the administrative review procedure of another participating federal agency, if the responsible official and the responsible official of the other agencies agree to provide a joint response to those who have filed for administrative review of the multi-agency decision.

The Bureau of Land Management and the Forest Service are participating in a multi-agency decision. The responsible officials of the Forest Service and Bureau of Land Management have agreed to provide a joint response to those who file for administrative review of the proposed decision, which is scheduled to be distributed to the public in mid-December, along with the final EIS for the ICBEMP. The responsible officials of the Forest Service (the Regional Foresters of the Northern, Intermountain, and Pacific Northwest Regions) and the reviewing officer (the Chief of the Forest Service) waive the objection procedures under part 219.32 to adopt the administrative review procedure of the Bureau of Land Management. The reasons for this decision are as follows:

• The Forest Service and Bureau of Land Management jointly share the lead for the Interior Columbia Basin Ecosystem Management Project.

• The two agencies have gone jointly to the public for scoping, information-gathering, and review since the inception of the Project.

• Using one administrative review procedure lets the public request review from both agencies at one time, rather than having to make two separate, potentially redundant requests.

• Using two separate administrative review procedures, including potential changes in the proposed Project decision, could result in the two agencies' recording two different decisions. This result would fail to meet the original purpose of this action, which was to develop and analyze a strategy for management of lands administered by both the Forest Service and the Bureau of Land Management.

To request administrative review of the proposed decision for the Interior Columbia Basin Ecosystem Management Project use the following procedure:

• Put the protest in writing and file it with the Director of the Bureau of Land Management and the Chief of the Forest Service at the address that will be provided with the final EIS and proposed decision.

• The protest shall be filed within 30 days of the date the Environmental Protection Agency publishes the notice of receipt of the final environmental impact statement in the Federal Register. (This publication is expected to be in mid-December, 2000. The exact date for protests will be identified at that time.)

• The protest shall contain:

The name, mailing address, telephone number and interest of the person filing the protest.

A statement of the issue or issues being protested;

A statement of the part or parts of the amendment being protested;

A copy of all documents addressing the issue or issues that were submitted during the planning process by the protesting party or an indication of the date the issue or issues were discussed for the record; and

A concise statement explaining why the responsible officials' decision is believed to be wrong.

The BLM Director and Forest Service Chief will promptly render a joint decision on the protest. The decision will be in writing and will set forth the reasons for the decision. The decision will be sent to the protesting party by certified mail, return receipt requested.

The joint decision of the Director and Chief shall be the final decision of the Department of the Interior and the Department of Agriculture. Reviewers who do not request administrative review of the proposed decision may not preserve their standing to litigate the final decision.

Dated: November 20, 2000.
Dale Bosworth,
Regional Forester, Northern Region, Forest Service.
Dated: November 17, 2000.
Martha Hahn,
State Director, Idaho, Bureau of Land Management.

[FR Doc. 00-30393 Filed 11-28-00; 8:45 am]

BILLING CODE 4310-66-M